ENVIRONMENTAL PROTECTION AGENCY

[EPA-HQ-OPP-2007-1071; FRL-8156-4]

Pesticides; Availability of Updated Schedule for Registration Review

AGENCY: Environmental Protection Agency (EPA).

ACTION: Notice.

SUMMARY: EPA is announcing the availability of an updated schedule for the pesticide registration review program, the periodic review of all registered pesticides mandated by section 3(g) of the Federal Insecticide, Fungicide, and Rodenticide Act (FIFRA). This program began in fiscal year (FY) 2007 after the registration review rule became effective. Twenty-five pesticides have since entered the registration review process. This updated schedule provides the timetable for opening dockets for the next four years of the registration review program—FY 2008 to 2011—and includes information on the FY 2007 registration review cases.

FOR FURTHER INFORMATION CONTACT: Kennan Garvey, Special Review and Reregistration Division (7508P), Office of Pesticide Programs, Environmental Protection Agency, 1200 Pennsylvania Ave., NW., Washington, DC 20460-0001; telephone number: (703) 305-7106; fax number: (703) 308-8090; e-mail address: garvey.kennan@epa.gov.

SUPPLEMENTARY INFORMATION:

I. General Information

A. Does this Action Apply to Me?

You may be potentially affected by this action if you hold pesticide registrations. Pesticide users or other persons interested in the regulation of the sale, distribution, or use of pesticides may also be interested in this action. Potentially affected entities may include, but are not limited to:

• Producers of pesticide products (NAICS code 32532).

• Producers of antifoulant paints (NAICS code 32551).

• Producers of antimicrobial pesticides (NAICS code 32561).

• Producers of nitrogen stabilizer products (NAICS code 32531).

• Producers of wood preservatives (NAICS code 32519).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in 40 CFR 155.40 of the regulatory text of the Federal Register of August 9, 2006 (71 FR 45719) (FRL-8080-4). If you have any questions regarding the applicability of this action to a particular entity, consult the person listed under FOR FURTHER INFORMATION CONTACT.

B. How Can I Get Copies of this Document and Other Related Information?

1. Docket. EPA has established a docket for this action under docket identification (ID) number EPA-HQ-OPP-2007-1071. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

EPA is issuing an updated schedule for the registration review program, the Agency's periodic review of all registered pesticides mandated by section 3(g) of FIFRA. This updated schedule provides the timetable for opening dockets for the next four years of the program—FY 2008 to 2011. (See the Federal Register of October 11, 2006 (71 FR 59786, FRL-8096-8); http://www.epa.gov/fedrgstr/EPA-PEST/2006/October/Day-11/p16483.htm.

The Pesticide Registration Improvement Act of 2003 was recently amended and extended. The Act provides for the continuation of annual pesticide maintenance fees and authorizes their use for registration review. The Act also requires EPA to complete registration review decisions by October 1, 2022 for all pesticides registered as of October 1, 2007. To ensure meeting this requirement, EPA will open approximately 70 pesticide registration review dockets annually beginning in fiscal year 2009 and continuing through 2017 so that almost all currently-registered pesticides have dockets opened by 2017. Some biopesticide dockets will be opened in 2018 through 2020. The Agency anticipates that this scheduling will provide adequate lead times to complete registration review decisions for all currently-registered pesticides by 2022. For the first several years of the program, EPA will be developing a pipeline of pesticides under review so that it will have the capacity to make approximately 70 decisions each year. EPA expects a total of 722 pesticide cases comprising 1,135 pesticide active ingredients to undergo registration review by 2022.

Each pesticide's place on the schedule is generally determined by its baseline date — the date of its last substantive review — with the oldest cases going first. The baseline date for a pesticide that was subject to reregistration is the date of the Reregistration Eligibility Decision (RED). The baseline date for pesticides that were not subject to reregistration is the registration date of the first product containing the active ingredient. Although the schedule generally is constructed chronologically, some registration review cases are grouped in the schedule for greater efficiency. For example, pesticides that are chemically related or use-related (e.g., organophosphate and carbamate chemical classes, the coppers group, and the pyrethroids, pyrethrins, and syngergists group) generally will be reviewed during the same time frame.

Background information on the program is provided at: http://www.epa.gov/oppsrrd1/registration_review/.

An explanation of the schedule is at: http://www.epa.gov/oppsrrd1/registration_review/explanation.htm.

The current schedule is available at: http://www.epa.gov/oppsrrd1/registration_review/schedule.htm.

B. What is the Agency's Authority for Taking this Action?

EPA is announcing this updated schedule for the registration review program as provided in 40 CFR 155.42(d) and 155.44 of the Procedural Regulations for Registration Review: Final Rule (http://www.epa.gov/fedrgstr/EPA-PEST/2006/August/Day-09/p12904.htm). The Agency may consider issues raised by the public or registrant when reviewing a posted schedule, to schedule a pesticide registration review, or to modify the schedule of a pesticide registration review as appropriate. This schedule will be updated at least once every year.

List of Subjects

Environmental protection, Agricultural commodities, Pesticides and pests.

Dated: November 7, 2007.
Peter Caulkins,
Acting Director, Special Review and Reregistration Division, Office of Pesticide Programs.

[FR Doc. E7-22382 Filed 11-20-07; 8:45 am]

BILLING CODE 6560-50-S